DEPARTMENT OF STATE

[Public Notice: 11682]

Determination Under Section 506(A)(1) of the Foreign Assistance Act of 1961 To Provide Immediate Military Assistance to the Lebanese Armed Forces

Pursuant to the authority vested in me by section 506(a)(1) of the Foreign Assistance Act of 1961 (FAA) (22 U.S.C. 2318(a)(1)) and Presidential Delegation of Authority dated September 7, 2021, I hereby determine that an unforeseen emergency exists which requires immediate military assistance to the Lebanese Armed Forces. I further determine that these requirements cannot be met under the authority of the Arms Export Control Act or any other provision of law.

I, therefore, direct the drawdown of up to $22 million in defense articles and services of the Department of Defense under the authority of section 506(a)(1) of the FAA to provide immediate assistance to the Lebanese Armed Forces. The Department of State will coordinate implementation of this drawdown.

This determination shall be reported to Congress and published in the Federal Register.

Dated: September 22, 2021.
Antony J. Blinken,
Secretary of State.

Editorial Note: This document was received for publication by the Office of the Federal Register on March 11, 2022.

[FR Doc. 2022-05593 Filed 3-16-22; 8:45 am]

BILLING CODE 4710-25-P